FEDERAL COMMUNICATIONS COMMISSION

Notice of Public Information Collection(s) Being Submitted for Review to the Office of Management and Budget

October 17, 2008.

SUMMARY: The Federal Communications Commission, as part of its continuing effort to reduce paperwork burden, invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before November 21, 2008. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via internet at Nicholas_A._Fraser@omb.eop.gov and to Judith-B. Herman@fcc.gov, Federal Communications Commission, or an e-mail to PRA@fcc.gov. To view a copy of this information collection request (ICR) submitted to OMB: (1) Go to the Web page http://reginfo.gov/public/do/PRAMain, (2) look for the section of the Web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information or copies of the information collection(s), contact Judith B. Herman at 202-418-0214 or via the Internet at Judith-B.Herman@fcc.gov.

SUPPLEMENTARY INFORMATION: OMB Control Number: 3060-0511.

Title: ARMIS Access Report.

Report No.: FCC Report 43-04.

Type of Review: Extension of a currently approved collection.

Respondents: Business or other for-profit.

Number of Respondents: 76 respondents; 76 responses.

Estimated Time per Response: 153 hours.

Frequency of Response: Annual reporting requirement.

Obligation to Respond: Mandatory. Statutory authority for this information collection is contained in 47 U.S.C. 161, 219(b) and 220 of the Communications Act of 1934, as amended.

Total Annual Burden: 11,628 hours.

Total Annual Cost: N/A.

Privacy Act Impact Assessment: N/A.

Nature and Extent of Confidentiality: Ordinarily, questions of a sensitive nature are not involved in the ARMIS 43-04 Access Report. The Commission contends that areas in which detailed information is required are fully subject to regulation and the issue of data being regarded as sensitive will arise on special circumstances only. In such circumstances, the Commission instructs the respondent on the appropriate procedures to follow to safeguard sensitive data. Respondents may request confidential treatment of their documents under 47 CFR 0.459 of the Commission's rules.

Needs and Uses: The Federal Communications Commission is submitting this information collection (IC) to the OMB as an extension during this comment period to obtain the full three-year clearance from them. The Commission is reporting a −918 burden hour reduction (adjustment). This adjustment is due to fewer respondents (from 82 to 76 from the last time this information collection was submitted to the OMB). Therefore, the total annual burden hours are now estimated at 11,628 hours.

The Automated Reporting Management Information System (ARMIS), Report 43-04, Access Report provides jurisdictional separations and access charge data by Part 36 category of the Commission's rules and regulations. The ARMIS Report 43-04 monitors revenue requirements, joint cost allocations, jurisdictional separations and access charges.

Note: The Commission in its Memorandum Opinion and Order, WC Docket Nos. 07-21 and 05-342, 23 FCC Rcd 7302, released April 24, 2008, granted AT&T's petition for forbearance, finding conditionally that AT&T, as a price cap carrier generally not subject to rate-of-return regulation, has demonstrated that forbearance from enforcing the Cost Assignment Rules satisfies the standard for forbearance under section 10 of the Act. Specially, the Commission concluded that there is no current need to apply the Cost Assignment Rules to AT&T. In addition, the Commission stated that LECs similarly situated to AT&T are free to seek comparable forbearance relief. Among other things, AT&T asked for forbearance from four of the Commission's reporting requirements, including the Access Report (ARMIS 43-04.) As a condition of this forbearance, the Commission required AT&T to file a compliance plan, which must include, among other things, a description of its imputation methodology. AT&T must demonstrate that its access charge imputation methodologies remain consistent with section 272(e)(3) of the Communications rules and the Section 272 Sunset Order. In particular, AT&T's compliance plan must describe how it will account for imputed tariff rates given the grant of the requested forbearance from section 32.5280(b) and (c) of the Commission's rules. The Commission required that AT&T describe in detail how it will continue to fulfill its statutory and regulatory obligations, including section 254(k), and the conditions of this Order. The relief granted in this Order will not become effective unless and until AT&T's plan is approved. The compliance plan must also include AT&T's first annual certification that it will comply with its obligations under section 254(k) in the absence of the Cost Assignment Rules and will provide any requested cost accounting information necessary to prove such compliance. Also, the Commission required AT&T to include a proposal for how it will maintain its accounting procedures and data in a manner that will allow it to provide useable information on a timely basis if requested by the Commission to comply with any of the conditions of this relief and its commitment to the Commission. Finally, the plan must include an explanation of the transition process that AT&T will undertake, including an expected schedule, to discontinue compliance with Cost Assignment Rules and replace them with the procedures outlined in its compliance plan upon approval of the plan. The Commission delegated to the Chief of the Wireline Competition Bureau (Bureau) to prescribe the administrative requirements of the filing and to approve the plan when the Bureau is satisfied that AT&T will implement a method of preserving the integrity of its accounting system in the absence of the Cost Assignment Rules. Upon approval, the Bureau will release a public notice notifying the public of approval of the plan.

In the Commission's Memorandum Opinion and Order and Notice of Proposed Rulemaking WC Docket No. 08-190, et al., FCC 08-203, released September 6, 2008, it noted that in this proceeding parties have raised the issue of the overlap between the ARMIS requirements at issue in this proceeding and certain cost assignment relief previously granted to AT&T. Because the Commission found that the reasoning of the AT&T Cost Assignment Forbearance Order applies to Verizon and Qwest, it took the opportunity, on its own motion, to extend to them the conditional forbearance granted in the AT&T Cost Assignment Forbearance Order, subject to approval of their compliance plan.

The Commission uses an indexed revenue threshold to determine which carriers are required to file the ARMIS reports. The current revenue threshold between Class A carriers and Class B carriers is $138 million and the revenue threshold between larger Class A carriers and mid-sized carriers is $8.181 billion.

Federal Communications Commission.
Marlene H. Dortch,
Secretary.

[FR Doc. E8-25191 Filed 10-21-08; 8:45 am]

BILLING CODE 6712-01-P